DEPARTMENT OF THE INTERIOR

Bureau of Land Management

[LLIDT000000.L11200000.DD0000.241A.00]

Notice of Public Meetings, Twin Falls District Resource Advisory Council, Idaho

AGENCY: Bureau of Land Management, Interior.

ACTION: Notice of Public Meetings.

SUMMARY: In accordance with the Federal Land Policy and Management Act (FLPMA), the Federal Advisory Committee Act of 1972 (FACA), and the Federal Lands Recreation Enhancement Act of 2004 (FLREA), the U.S. Department of the Interior Bureau of Land Management (BLM) Twin Falls District Resource Advisory Council (RAC) subcommittee for the Jarbidge Draft Resource Management Plan (RMP) will meet as indicated below.

DATES: October 13 and 27, 2010; November 3 and 17, 2010; and December 1, 2010. The Twin Falls District RAC subcommittee members will meet at the Loong Hing Restaurant, 1719 Kimberly Road, Twin Falls, ID. On each date, the meeting will begin at 6 p.m., and the public comment period will take place from 6:15 to 6:45 p.m.

FOR FURTHER INFORMATION CONTACT: Heather Tiel-Nelson, BLM Twin Falls District Office, 2536 Kimberly Road, Twin Falls, Idaho 83301; (208) 736-2352.

SUPPLEMENTARY INFORMATION: The 15-member RAC advises the Secretary of the Interior, through the Bureau of Land Management, on a variety of planning and management issues associated with public land management in Idaho. The Jarbidge Draft RMP subcommittee will meet several times this fall to more thoroughly discuss different sections of the Jarbidge Draft RMP and bring the information back to the full RAC in January 2011. During the October 13th meeting, RAC subcommittee members will discuss the transportation and recreation sections of the Jarbidge Draft RMP; during the October 27th meeting, they will discuss grazing issues. On November 3rd they will discuss special designations; on November 17th they will discuss rights of way and land use authorizations. On December 1st they will prepare the information collected to submit to the full RAC in January. More information about the RAC is available at http://www.blm.gov/id/st/en/res/resource_advisory.3.html. The Jarbidge Draft RMP is available at http://www.blm.gov/id/st/en/prog/planning/jarbidge_resource/Documents.html. RAC meetings are open to the public. For further information about the meeting, please contact Heather Tiel-Nelson, Public Affairs Specialist for the BLM Twin Falls District at (208) 736-2352.

Dated: September 21, 2010.
Bill Baker,
District Manager.

[FR Doc. 2010-24481 Filed 9-29-10; 8:45 am]

BILLING CODE 4310-GG-P